DEPARTMENT OF LABOR

Employment and Training Administration

[TA-W-55,625]

Gateway Country Store, Whitehall Mall, Whitehall, PA; Notice of Termination of Investigation

Pursuant to section 221 of the Trade Act of 1974, as amended, an investigation was initiated on September 20, 2003, in response to a petition filed on behalf of workers at Gateway Country Store, Whitehall Mall, Whitehall, Pennsylvania. Workers at the subject firm were engaged in the sales and service of Gateway products.

The Department of Labor issued a negative determination applicable to the petitioning group of workers on August 5, 2004 (TA-W-55,333). No new information or change in circumstances is evident which would result in a reversal of the Department's previous determination. Consequently, further investigation would serve no purpose, and the investigation has been terminated.

Signed in Washington, DC this 4th day of October, 2004.
Richard Church,
Certifying Officer, Division of Trade Adjustment Assistance.

[FR Doc. E4-2848 Filed 10-25-04; 8:45 am]

BILLING CODE 4510-30-P